SMALL BUSINESS ADMINISTRATION

Federal Assistance for Women's Business Center (WBC) Program To Provide Financial Counseling and Other Management and Technical Assistance to Women

AGENCY: U.S. Small Business Administration.

ACTION: Program Announcement No. OWBO-2001-015.

SUMMARY: This notice corrects the application period of Program Announcement No. OWBO-2001-15. The previous notice (Doc. 00-20873), published August 17, 2000, stated that the application period will be from late September 2001 to mid-November 2001. The correct application period will be from late September 2000 to mid-November 2000.

SUPPLEMENTARY INFORMATION: As stated in the previous notice, The Small Business Administration (SBA) plans to issue Program Announcement No. OWBO-2001-015 to invite applications from eligible nonprofit organizations to conduct Women's Business Center projects. The authorizing legislation is the Small Business Act, 2 (h) and 29, 15 U.S.C. 631 (h) and 656. SBA Headquarters must receive applications/proposals by 4 p.m., Eastern Standard Time, on the closing date of the application period. SBA will select successful applicants using a competitive process. The successful applicants will receive an award to provide long term training and other technical assistance to women who want to start or expand businesses.

Service and assistance areas must include financial, management, marketing, loan packaging, eCommerce and government procurement/certification assistance. Applicants must plan to include women who are socially and economically disadvantaged in the target group. The applicant may propose specialized services that will assist women in Empowerment Zones, women who are veterans, women with disabilities, women who have home-based businesses, women in agribusiness, or women in rural or urban areas. SBA will require award recipients to provide content and support to the SBA-funded Online Women's Business Center, (www.onlinewbc,org) and provide training on the business uses of the Internet. Each applicant must submit a five-year plan that describes proposed fund-raising, training and technical assistance activities. A center may receive financial assistance up to five years, however, the award will be issued annually to conduct a 12-month project.

Award recipients must provide non-Federal matching funds as follows: one non-Federal dollar for each two Federal dollars in years 1 and 2; and one non-Federal dollar for each Federal dollar in years 3, 4 and 5. Up to one-half of the non-Federal matching funds may be in the form of in-kind contributions.

DATES: The application period will be from late September 2000 to mid-November 2000.

FOR FURTHER INFORMATION CONTACT: Sally Murrell, (202) 205-6673 or Mina Wales, (202) 205-7080.

Sherrye P. Henry,
Assistant Administrator, SBA /Office of Women's Business Ownership.

[FR Doc. 00-23047 Filed 9-7-00; 8:45 am]

BILLING CODE 8025-01-P